FEDERAL COMMUNICATIONS COMMISSION

47 CFR Part 73

[MB Docket No. 10-108; Report No. 2925]

Petition for Reconsideration of Action of Rulemaking Proceeding

AGENCY: Federal Communications Commission.

ACTION: Petition for reconsideration.

SUMMARY: In this document, a Petition for Reconsideration (Petition) has been filed in the Commission's Rulemaking proceeding listed in this document (Table of Allotments, FM Broadcast Stations (Pacific Junction, Iowa)).

DATES: Oppositions to the Petition must be filed by March 18, 2011. Replies to an opposition must be filed March 28, 2011.

ADDRESSES: Federal Communications Commission, 445 12th Street, SW., Washington, DC.

FOR FURTHER INFORMATION CONTACT: Andrew J. Rhodes, Media Bureau, (202) 418-2180.

SUPPLEMENTARY INFORMATION: This is a summary of Commission's document, Report No. 2925, released February 7, 2011. The full text of this document is available for viewing and copying in Room CY-B402, 445 12th Street, SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

This document is published pursuant to 47 CFR 1.429(e). See 1.4(b)(1) of the Commission's rules (47 CFR 1.4(b)(1)).

Subject: In the Matter of Amendment of Section 73.202(b), Table of Allotments, FM Broadcast Stations (Pacific Junction, Iowa) (MB Docket No. 10-108).

Number of Petitions Filed: 1.

Federal Communications Commission.
Bulah P. Wheeler,
Deputy Manager, Office of the Secretary, Office of Managing Director.

[FR Doc. 2011-4687 Filed 3-2-11; 8:45 am]

BILLING CODE 6712-01-P